DEPARTMENT OF EDUCATION

[Docket ID ED-2024-OPE-0098]

34 CFR Chapter III

Proposed Waiver and Extension of the Project Period for the Postsecondary Programs for Students With Intellectual Disabilities—National Technical Assistance and Dissemination Center (PPSID-NTAD) Program

AGENCY: Office of Postsecondary Education (OPE), Department of Education.

ACTION: Proposed waiver and extension of the project period.

SUMMARY: The Secretary proposes to waive the requirements in the Education Department General Administrative Regulations that generally prohibit project period extensions involving the obligation of additional Federal funds. The proposed waiver and extension would enable one project under ALN number 84.407C to receive funding for an additional period, not to exceed September 30, 2025.

DATES: We must receive your comments on or before September 6, 2024.

ADDRESSES: Submit your comments through the Federal eRulemaking Portal or via postal mail or commercial delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “FAQs.”

• Postal Mail or Commercial Delivery: The Department strongly encourages commenters to submit their comments electronically. However, if you mail or deliver your comments, address them to: Postsecondary Programs For Students With Intellectual Disabilities—National Technical Assistance and Dissemination Center Program, ALN number 84.407C, Attention: Shedita Alston, U.S. Department of Education, 400 Maryland Avenue SW, Room 5C-131, Washington, DC 20202.

Privacy Note: The Department's policy is to make all comments received from members of the public available for public viewing in their entirety on the Federal eRulemaking Portal at www.regulations.gov. Therefore, commenters should be careful to include in their comments only information that they wish to make publicly available.

FOR FURTHER INFORMATION CONTACT: Shedita Alston, U.S. Department of Education, 400 Maryland Avenue SW, Room 5C-131, Washington, DC 20202. Telephone: (202) 453-7090. Email: Shedita.Alston@ed.gov.

If you use a telecommunications device for the deaf (TDD) or a text telephone (TTY), call the Federal Relay Service (FRS), toll free, at 1-800-877-8339.

SUPPLEMENTARY INFORMATION:

Invitation to Comment: We invite you to submit comments regarding this proposed waiver and extension.

We invite you to assist us in complying with the specific requirements of Executive Orders 12866, 13563, and 14094 and their overall requirement of reducing regulatory burden that might result from this proposed waiver and extension. Please let us know of any further ways we could reduce potential costs or increase potential benefits while preserving the effective and efficient administration of the program.

During and after the comment period, you may inspect all public comments about this proposed waiver and extension by accessing Regulations.gov. To inspect the public comments in person, please contact the program contact person listed under FOR FURTHER INFORMATION CONTACT.

Assistance to Individuals with Disabilities in Reviewing the Rulemaking Record: On request, we will provide an appropriate accommodation or auxiliary aid to an individual with a disability who needs assistance to review the comments or other documents in the public rulemaking record for this proposed waiver and extension. If you want to schedule an appointment for this type of aid, please contact the person listed under FOR FURTHER INFORMATION CONTACT.

Background

On August 5, 2021, the Department of Education (Department) published in the Federal Register (86 FR 42801) a notice inviting applications for projects for fiscal year (FY) 2021 under the PPSID-NTAD program, authorized under the Departments of Labor, Health and Human Services, and Education and Related Agencies Appropriations Act, 2021, H.R. 7614, 116th Congress (2020), and the explanatory statement accompanying H.R. 7614. The PPSID-NTAD program provides for the establishment of a technical assistance center to translate and disseminate research and best practices for all institutions of higher education (IHEs), including those not participating in the Transition and Postsecondary Programs for Students with Intellectual Disabilities (TPSID) program, for improving inclusive postsecondary education for students with intellectual disabilities (SWIDs). This center is designed to ensure that knowledge and products gained through research reaches more IHEs and students and improves postsecondary educational opportunities for SWIDs.

In August 2021, the Department made one 36-month award under the PPSID-NTAD program as follows:

Institution | State
University of Massachusetts at Boston | MA

The current project period for this grantee ends on September 30, 2024.

Waiver and Extension

We are proposing to extend the project period for the PPSID-NTAD FY 2021 grantee in order to align and coordinate the funding cycle of the PPSID-NTAD program with TPSID and the TPSID-Coordinating Center (TPSID-CC) program grant authorized under title VII, part D, subpart 2 of the Higher Education Act of 1965, as amended (HEA) (20 U.S.C. 1140f et seq.), and title VII, part D, subpart 4 of the HEA (20 U.S.C. 1140q), respectively. Aligning the ends of the project periods across grants would allow the Department to better coordinate the TPSID program. While the technical assistance center and the coordinating center have different audiences for the dissemination of their research, aligning the funding for the grantees who are doing this work will improve the efficiency and cost effectiveness of the technical assistance and dissemination efforts, and will help ensure that both the TPSID grantees and other institutions that benefit from the research receive aligned supports from the centers.

For this reason, the Secretary proposes to waive the requirements in 34 CFR 75.261(a) and (c)(2), which allow the extension of a project period only if the extension does not involve the obligation of additional Federal funds. The waiver would allow the Department to issue a one-time FY 2024 continuation award to the current PPSID-NTAD program grantee estimated as follows:

Institution | State | Award
University of Massachusetts at Boston | MA | $1,543,686

Any activities carried out during the year of this continuation award must be consistent with the scope, goals, and objectives of the grantee's application as approved in the FY 2021 competition. If we announce the proposed waiver and extension as final, we will base our decisions regarding a continuation award on the extent to which the grantee meets the requirements set forth in 34 CFR 75.253.

Regulatory Flexibility Act Certification

The Secretary certifies that the proposed waiver and extension of the project period would not have a significant economic impact on a substantial number of small entities. The only small entities that would be affected by the proposed waiver and extension of the project period is the current grantee and any other potential applicants.

The Secretary certifies that the proposed waiver and extension would not have a significant economic impact on these entities because the extension of an existing project period would impose minimal compliance costs to extend the existing project, and the activities required to support the additional year of funding would not impose additional regulatory burdens or require unnecessary Federal supervision.

Paperwork Reduction Act of 1995

The proposed waiver and extension do not contain any information collection requirements.

Intergovernmental Review

This program is subject to Executive Order 12372 and the regulations in 34 CFR part 79.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Adobe Portable Document Format (PDF). To use PDF, you must have Adobe Acrobat Reader, which is available free at the site.

You may also access Department documents published in the Federal Register by using the article search feature at www.federalregister.gov. Specifically, through the advanced search feature at this site, you can limit your search to documents published by the Department.

Program Authority: 20 U.S.C. 1140f-1140i.

Nasser Paydar,
Assistant Secretary for Postsecondary Education.

[FR Doc. 2024-17560 Filed 8-6-24; 8:45 am]

BILLING CODE 4000-01-P